DEPARTMENT OF HEALTH AND HUMAN SERVICES

National Institutes of Health

Submission for OMB Review; Comment Request; Assessing the Long-Term Impacts of the John E. Fogarty International Center's Research and Training Programs

SUMMARY: Under the provisions of Section 3507(a)(1)(D) of the Paperwork Reduction Act of 1995, the John E. Fogarty International Center, the National Institutes of Health has submitted to the Office of Management and Budget (OMB) a request to review and approve the information collection listed below. This proposed information collection was previously published in the Federal Register on May 27, 2010 (volume 75, number 102, page 29763) and allowed 60 days for public comment. One comment was received from a member of the public. The purpose of this notice is to allow an additional 30 days for public comment.

Proposed Collection: Title: Assessing the Long-Term Impacts of the John E. Fogarty International Center's Research and Training Programs. Type of Information Collection Request: New collection. Need and Use of Information Collection: This study will inform investment decisions and strategies employed by the Fogarty International Center for the purpose of strengthening biomedical research capacity in low and middle income countries. The primary objective of the study is to develop detailed case studies of the long-term impacts of Fogarty's research and training programs on educational institutions located in low and middle income countries. The findings will provide valuable information concerning return on the Center's investments over the past twenty years and effective strategies for promoting research capacity development in the future. Frequency of Response: Once. Affected Public: Individuals. Type of Respondents: Current and former NIH grantees; Current and former NIH trainees in countries of interest; Leaders and administrators at institutions of interest; Policy-makers and scientific leaders in countries of interest. The annual reporting burden is as follows:

Estimated Number of Respondents: 210 per year. Estimated Number of Responses per Respondent: 1. Average Burden Hours per Response: 1. Estimated Total Annual Burden Hours Requested: 290. The annualized cost to respondents is estimated at: $4,841. There are no Capital Costs to report. There are no Operating or Maintenance Costs to report.

Request for Comments: Written comments and/or suggestions from the public and affected agencies are invited on one or more of the following points: (1) Whether the proposed collection of information is necessary for the proper performance of the function of the agency, including whether the information will have practical utility; (2) the accuracy of the agency's estimate of the burden of the proposed collection of information, including the validity of the methodology and assumptions used; (3) ways to enhance the quality, utility, and clarity of the information to be collected; and (4) ways to minimize the burden of the collection of information on those who are to respond, including the use of appropriate automated, electronic, mechanical, or other technological collection techniques or other forms of information technology.

Direct Comments to OMB: Written comments and/or suggestions regarding the item(s) contained in this notice, especially regarding the estimated public burden and associated response time, should be directed to the: Office of Management and Budget, Office of Regulatory Affairs, OIRA_submission@omb.eop.gov or by fax to 202-395-6974, Attention: Desk Officer for NIH. To request more information on the proposed project or to obtain a copy of the data collection plans and instruments, contact Dr. Linda Kupfer, Fogarty International Center, National Institutes of Health, 16 Center Drive, Bethesda, MD 20892, or call non-toll-free number 301-496-3288, or e-mail your request, including your address to: Linda.Kupfer@nih.gov.

Comments Due Date: Comments regarding this information collection are best assured of having their full effect if received within 30 days of the date of this publication.

Dated: August 23, 2010.
Timothy J. Tosten,
Executive Officer, John E. Fogarty International Center, National Institutes of Health.

[FR Doc. 2010-21350 Filed 8-26-10; 8:45 am]

BILLING CODE 4140-01-P